DEPARTMENT OF HOUSING AND URBAN DEVELOPMENT

[Docket No. FR-5753-N-02]

60-Day Notice of Proposed Information Collection: Closeout Instructions for Community Development Block Grant (CDBG) Programs Grants

AGENCY: Office of the Assistant Secretary for Community Planning and Development.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 23, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Hunter Kurtz, Community Planning and Development Specialist, CPD, Department of Housing and Urban Development, 451 7th Street SW., Washington, DC 20410; email Colette Pollard at Hunter.Kurtz@hud.gov or telephone 202-402-7466. This is not a toll-free number. Persons with hearing or speech impairments may access this number through TTY by calling the toll-free Federal Relay Service at (800) 877-8339.

Copies of available documents submitted to OMB may be obtained from Mr. Kurtz.

SUPPLEMENTARY INFORMATION: This notice informs the public that HUD is seeking approval from OMB for the information collection described in Section A.

A. Overview of Information Collection

Title of Information Collection: Closeout Instructions for Community Development Block Grant (CDBG) Program Grants.

OMB Approval Number: 2506-0193.

Type of Request: Extension of currently approved collection.

Form Number: Notice CPD-14-02 Includes HUD Forms: 40151, 40152, 40153, 40154, 40155, 40156, 40157, 40158, 40159, 40161, 40164, 40175, 40176, 40177, 40178, 40179, 40180, 40181, 40182, 40183, and 40184.

Description of the need for the information and proposed use: This information collection is being conducted by CPD Office of Block Grant Assistance to assist the Administrator of HUD in determining, as required by Section 104 (e) of the (HCDA) of 1974, and outlined in Subpart I (for States) and Subpart J (for entitlements) of the CDBG regulation, whether Grantees, have carried out eligible activities and its certifications in accordance with the statutory and regulatory requirements governing State CDBG, CDBG-R, Disaster Recovery, NSP1, NSP2 and NSP3 grants prior to closing the grant allocation.

Respondents: Entitlement communities, Nonprofits, States and units of general local governments.

Information collection | Number of respondents | Frequency of response | Responses per annum | Burden hour per response | Annual burden hours | Hourly cost per response | Annual cost
Total | 3,088 | Once during the grant | 204.5 | 17 | 738.5 | $24.10 | $17,797.85

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 17, 2014.
Clifford Taffet,
Assistant Secretary for Community Planning and Development (Acting).

[FR Doc. 2014-17564 Filed 7-24-14; 8:45 am]

BILLING CODE 4210-67-P